DEPARTMENT OF THE INTERIOR

Bureau of Land Management

[LLNVS01000.L58530000.EU0000.241A; N-99569; 12-08807; MO #4500156780; TAS:15X5232]

Notice of Realty Action: Recreation and Public Purposes Act Classification, Lease, and Subsequent Conveyance of Public Lands; Nevada

AGENCY: Bureau of Land Management, Interior.

ACTION: Notice of realty action.

SUMMARY: The Bureau of Land Management (BLM), Las Vegas Field Office, has examined approximately 2.5 acres of public land in the Las Vegas Valley, Clark County, Nevada, and found the lands suitable for classification under the provisions of the Recreation and Public Purposes (R&PP) Act, as amended. Clark County proposes to use the land for a new community fire station to help meet future expanding public-safety needs in the southwestern part of the Las Vegas Valley.

DATES: Interested parties may submit written comments until May 16, 2022.

ADDRESSES: Mail written comments to the BLM Las Vegas Field Office, Assistant Field Manager, 4701 North Torrey Pines Drive, Las Vegas, NV 89130; or fax to 775-515-5010.

FOR FURTHER INFORMATION CONTACT: Jamie Moeini at the above address; by telephone at 702-515-5129; or by email at jmoeini@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The parcel is located south of Raven Avenue and east of Rosanna Street in southwest Las Vegas and is legally described as:

Mount Diablo Meridian, Nevada

T. 22 S., R. 60 E.,

Sec. 22, NW¼SE¼NE¼NE¼.

The area described contains 2.5 acres, according to the official plats of the surveys of said lands on file with the BLM.

Clark County proposes to develop the above-described land as a fire station consisting of a new 10,482-square-foot building with an Emergency Medical Service office, Battalion Chief's office, Captain's office, dining room, kitchen, “day room,” fitness room, outdoor BBQ area, alarm center, laundry area, turnout room, 12-person dorm, and a three large-vehicle apparatus bay with mechanical yard. The building will be constructed of insulated concrete masonry units and steel structure, with a decorative masonry veneer and steel canopy at the main entrance. There will be paved parking lots at the rear of the building consisting of 11 spaces for the public and 25 spaces for staff. Typical desert landscaping will be included throughout the site. Additional detailed information pertaining to this publication and plan of development for the project is available for review in case file N-99569 at the address as shown in the ADDRESSES section.

The land identified is not needed for any Federal purpose and it would be in the public's interest to transfer the parcel under the R&PP Act. The lease and subsequent conveyance are consistent with the 1998 BLM Las Vegas Resource Management Plan.

The lease and subsequent conveyance, when issued, will be subject to the provisions of the R&PP Act and applicable regulations of the Secretary of the Interior, and will be made subject to and/or the following reservations:

1. A right-of-way thereon for ditches or canals constructed by the authority of the United States, Act of August 30, 1890 (43 U.S.C. 945);

2. All minerals shall be reserved to the United States, together with the right to prospect for, mine, and remove such deposits for the same under applicable law and such regulations as the Secretary of the Interior may prescribe;

3. All other valid existing rights;

4. Terms or conditions required by law (including, but not limited to, any terms or conditions required by 43 CFR 2741.4) or as deemed necessary and appropriate by the Authorized Officer; and

5. Indemnification protecting the Untied States from claims arising out of the lessee's/patentee's use, occupancy, or operations on the leased/patented lands.

Upon publication of this notice in the Federal Register, the land described previously will be segregated from all other forms of appropriation under the public land laws, including the general mining laws, except for lease and conveyance under the R&PP Act, leasing under the mineral leasing laws, and disposals under the mineral material disposal laws.

Classification Comments: Interested parties may submit comments involving the suitability of the land as a fire station in Clark County. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a fire station.

Before including your address, phone number, email, address, or other personal identifying information in your comment, you should be aware that your entire comment—including your personal identifying information—may be made publicly available at any time. While you can ask us in your comment to withhold your personal identifying information from public review, we cannot guarantee that we will be able to do so. Only written comments submitted to the Assistant Field Manager, BLM Las Vegas Field Office, will be considered properly filed. Any adverse comments on the classification will be reviewed as protests, by the BLM Nevada State Director, who may sustain, vacate, or modify this realty action.

In the absence of any adverse comments, the decision will take effect on May 31, 2022.

(Authority: 43 CFR 2741.5)

Shonna Dooman,
Field Manager, Las Vegas Field Office.

[FR Doc. 2022-06721 Filed 3-29-22; 8:45 am]

BILLING CODE 4310-HC-P